DEPARTMENT OF COMMERCE

National Oceanic and Atmospheric Administration

[I.D. 040600D]

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene public meetings of the Mackerel Advisory Panel (AP) and Scientific and Statistical Committees (SSC).

DATES: The AP meeting is scheduled to begin at 8:30 a.m. on May 2, 2000 and will conclude by 3 p.m. The SSC meeting is scheduled to begin at 8:30 a.m. on May 3, 2000 and will conclude by 5 p.m.

ADDRESSES: Both meetings will be held at the Tampa Airport Hilton Hotel, 2225 Lois Avenue, Tampa, FL 33607; telephone: 813-877-6688.

Council address: Gulf of Mexico Fishery Management Council, 3018 U.S. Highway 301 North, Suite 1000, Tampa, FL 33619.

FOR FURTHER INFORMATION CONTACT: Dr. Richard Leard, Senior Fishery Biologist, Gulf of Mexico Fishery Management Council; telephone: 813-228-2815.

SUPPLEMENTARY INFORMATION: The Mackerel AP and SSC will convene to review assessment information on mackerel stocks and provide recommendations to the Council on possible changes to Federal rules affecting mackerels.

The Mackerel AP and SSC will review the 2000 stock assessment analyses for Gulf group king mackerel, the Mackerel Stock Assessment Panel (MSAP) report, and the report of the Socioeconomic Panel (SEP) that includes economic and social information related to the range of acceptable biological catch (ABC) and other management considerations for Gulf group king mackerel. Based on this review, the Mackerel AP and SSC may recommend to the Council levels for total allowable catch (TAC), bag limits, size limits, commercial quotas, and other measures for these species for the 2000-2001 fishing season. The Mackerel AP and SSC will also review a reporting form that NMFS Southeast Fisheries Science Center will be using to collect information on finfish discarded from the commercial catch, and may provide comments to the Council on the form.

At the conclusion of the Mackerel SSC meeting, the Standing SSC members will review the NMFS' bycatch reduction device (BRD) testing protocol and may provide comments to the Council. Also, the Standing SSC will discuss NMFS' response to the SSC's previous question regarding historical red grouper landings.

Although other non-emergency issues not on the agendas may come before the AP/SSC for discussion, in accordance with the Magnuson-Stevens Fishery Conservation and Management Act, those issues may not be the subject of formal action during these meetings. Actions of the AP/SSC will be restricted to those issues specifically identified in the agendas and any issues arising after publication of this notice that require emergency action under Section 305(c) of the Magnuson-Stevens Act, provided the public has been notified of the Council's intent to take action to address the emergency.

Copies of the agenda can be obtained by calling 813-228-2815.

Special Accommodations

These meetings are physically accessible to people with disabilities. Requests for sign language interpretation or other auxiliary aids should be directed to Anne Alford at the Council (see ADDRESSES) by April 24, 2000.

Dated: April 7, 2000.
Richard W. Surdi,
Acting Director, Office of Sustainable Fisheries, National Marine Fisheries Service.

[FR Doc. 00-9562 Filed 4-14-00; 8:45 am]

BILLING CODE 3510-22-F